DEPARTMENT OF AGRICULTURE

Forest Service

Siskiyou County Resource Advisory Committee; Notice of Meeting

AGENCY: Forest Service, USDA.

ACTION: Notice of meeting.

SUMMARY: The Siskiyou County Resource Advisory Committee (RAC) will meet on May 20, 2002, in Yreka, California. The purpose of the meeting is to discuss the following topics: Approval of Previous Meeting Minutes. Peg Boland's approval of recommended 2001 Proposals. Letters to successful proponents for 2001 projects. Schedule workshop with successful applicants to discuss administrative processes. Have 2001 applicants come in for presentations to encourage discussion about their proposals and their priorities. Funding projects for 2002—Choose from existing 52 proposals? Review of Rating Criteria for next fall 2003 proposal solicitations. Overhead and RAC Costs Discussion. Merchantable material in legislation directs 15% proposal to these products the first year. NEPA/CEQA compliance before funding.

DATES: The meetings will be held May 20, 2002 from 4 p.m. to 7 p.m.

ADDRESSES: The meeting will be held at the Yreka High School Library, Preece Way, Yreka, California.

FOR FURTHER INFORMATION CONTACT: Heidi Perry, Meeting Coordinator, USDA, Klamath National Forest, 1312 Fairlane Road, Yreka, California 96097, (530) 841-4468; e-mail hperry@fs.fed.us.

SUPPLEMENTARY INFORMATION: The meeting is open to the public. Public comment opportunity will be provided and individuals will have the opportunity to address the Committee at that time.

Dated: April 23, 2002.
Margaret J. Boland,
Forest Supervisor.

[FR Doc. 02-10803 Filed 5-1-02; 8:45 am]

BILLING CODE 3410-11-M